DEPARTMENT OF THE INTERIOR

Bureau of Land Management

[AK-932-1410-EU; FF-93920]

Notice of Application for a Recordable Disclaimer of Interest for Lands Underlying a Portion of the Black River, the Black River Slough, the Salmon Fork, the Grayling Fork, and Bull Creek Located in Northeastern Alaska

AGENCY: Bureau of Land Management (BLM), Interior.

ACTION: Notice.

SUMMARY: The State of Alaska has submitted an application for a recordable disclaimer of interest from the United States pursuant to Section 315 of the Federal Land Policy and Management Act of 1976, 43 U.S.C. 1745 (1994) and the regulations contained in 43 CFR part 1864. A recordable disclaimer of interest for these lands, if issued, will confirm the United States has no valid interest in the subject lands. This Notice is intended to notify the public of the pending application and the State's grounds for supporting it.

DATES: For a period of 90 days from the date of publication of this Notice, all interested parties may submit comments on the State's application, BLM Casefile FF-93920. A final decision on the merits of the application will not be made until 90 days has elapsed from the date of publication of this Notice.

ADDRESSES: Comments should be sent to the Chief, Branch of Lands and Realty, BLM Alaska State Office, 222 West 7th Avenue, No. 13, Anchorage, Alaska 99513-7599.

FOR FURTHER INFORMATION CONTACT: Mike Haskins, Branch of Lands and Realty, BLM Alaska State Office, 907-271-3351.

SUPPLEMENTARY INFORMATION: On February 14, 2003, the State of Alaska filed an application for a recordable disclaimer of interest affecting five water bodies described below. The State asserts these water bodies are navigable and, under the Equal Footing Doctrine, the State of Alaska gained title to lands underlying navigable waters upon statehood. The State's evidence of navigability of the Black River, the Salmon Fork, the Grayling Fork, and Bull Creek include administrative determinations made by the BLM, dated March 28, 1980, and July 22, 1983. A decision of the United States Court of Appeals for the Ninth Circuit, Alaska v. United States, 201 F.3d 1154 (9th Cir. 1997), which discusses the historic uses of the Black River, was also submitted as evidence with the application.

The water bodies included in the application are that portion of the bed of the Black River and Black River Slough, between the ordinary high water marks on its banks from its confluence with the Porcupine River, within T. 21 N., R. 13 E., Fairbanks Meridian, Alaska, to its confluence with the Wood River within T. 13 N., R. 27 E., Fairbanks Meridian; the Salmon Fork to the International Boundary; the Grayling Fork to the International Boundary; Bull Creek to Section 5, T. 13 N., R. 31 E., Fairbanks Meridian. Also included within the State's application are all interconnecting sloughs associated with these water bodies.

The State of Alaska did not identify any known adverse claimant or occupant of the affected lands.

Dated: May 1, 2003.
Mike Haskins,
Chief, Branch of Lands and Realty, Division of Resources, Lands, and Planning.

[FR Doc. 03-11621 Filed 5-7-03; 8:45 am]

BILLING CODE 4310-JA-P